NUCLEAR REGULATORY COMMISSION

[Docket No. 030-05337]

Notice of Finding of No Significant Impact and Availability of Environmental Assessment for License Amendment of Byproduct Material License No. 29-07694-01, BASF Corporation, West Windsor, NJ

I. Introduction

The U.S. Nuclear Regulatory Commission (NRC) is considering the issuance of a license amendment to BASF Corporation for Byproduct Material License No. 29-07694-01, to authorize release of its facility in West Windsor, New Jersey, for unrestricted use and has prepared an Environmental Assessment (EA) in support of this action in accordance with the requirements of 10 CFR part 51. Based on the EA, the NRC has concluded that a Finding of No Significant Impact (FONSI) is appropriate.

II. EA Summary

The purpose of the proposed action is to allow for the release of the licensee's West Windsor, New Jersey facility for unrestricted use. BASF Corporation (previously American Cyanamid Company) was authorized by NRC from September 25, 1961 to use radioactive materials for research and development purposes at the site. On October 31, 2001, BASF Corporation submitted a Facility Release Plan although one was not required. On March 8, 2002, the NRC issued amendment 40 to License No. 29-07694-01 which authorizes BASF to proceed with the decontamination and decommissioning as discussed in this plan. On September 20, 2002, BASF Corporation requested release for unrestricted use of the buildings at Quakerbridge and Clarksville Roads, West Windsor, New Jersey as authorized by the NRC License No. 29-07694-01, and termination of the license. BASF Corporation has conducted surveys of the facility and determined that the facility meets the license termination criteria in subpart E of 10 CFR part 20.

III. Finding of No Significant Impact

The NRC staff has evaluated BASF Corporation's request and the results of the surveys. The NRC staff has concluded that the completed action complies with 10 CFR part 20. The staff has prepared the EA (summarized above) in support of the proposed license amendment to terminate the license and release the facility for unrestricted use. On the basis of the EA, NRC has concluded that the environmental impacts from the proposed action are expected to be insignificant and has determined not to prepare an environmental impact statement for the proposed action.

IV. Further Information

The EA and the documents related to this proposed action, including the application for the license amendment and supporting documentation, are available for inspection at NRC's Public Electronic Reading Room at http://www.nrc.gov/reading-rm/adams.html (ADAMS Accesion No. ML030930120). Any questions with respect to this action should be referred to Kathy Modes, Nuclear Materials Safety Branch 2, Division of Nuclear Materials Safety, Region I, 475 Allendale Road, King of Prussia, Pennsylvania 19406, telephone (610) 337-5251, fax (610) 337-5269.

Dated at King of Prussia, Pennsylvania this 3rd day of April, 2003.
For the Nuclear Regulatory Commission.
John D. Kinneman,
Chief, Nuclear Materials Safety Branch 2, Division of Nuclear Materials Safety, Region I.

[FR Doc. 03-8898 Filed 4-10-03; 8:45 am]

BILLING CODE 7590-01-P